DEPARTMENT OF THE INTERIOR

National Park Service

[N6773; NPS-WASO-NAGPRA-NPS0041540; PPWOCRADN0-PCU00RP14.R50000]

Notice of Inventory Completion: U.S. Department of the Interior, Bureau of Indian Affairs, Washington, DC, and Northern Arizona University, Flagstaff, AZ

AGENCY: National Park Service, Interior.

ACTION: Notice.

SUMMARY: In accordance with the Native American Graves Protection and Repatriation Act (NAGPRA), U.S. Department of the Interior, Bureau of Indian Affairs, and Northern Arizona University have completed an inventory of human remains and associated funerary objects and has determined that there is a cultural affiliation between the human remains and associated funerary objects and Indian Tribes or Native Hawaiian organizations in this notice.

DATES: Repatriation of the human remains and associated funerary objects in this notice may occur on or after January 20, 2026.

ADDRESSES: Send written requests for repatriation of the human remains and associated funerary objects in this notice to Tamara Billie, U.S. Department of the Interior, Bureau of Indian Affairs, 1001 Indian School Road NW, Mailbox 44, Albuquerque, NM 87104, email tamara.billie@bia.gov.

SUPPLEMENTARY INFORMATION: This notice is published as part of the National Park Service's administrative responsibilities under NAGPRA. The determinations in this notice are the sole responsibility of the Bureau of Indian Affairs, and additional information on the determinations in this notice, including the results of consultation, can be found in its inventory or related records. The National Park Service is not responsible for the determinations in this notice.

Abstract of Information Available

Human remains representing at least 29 individuals have been identified. The 30 associated funerary objects are pottery sherds, pottery vessels, lithics, faunal bone, and a fragment of fur blanket. These individuals and objects from Navajo Tribal Trust lands in Arizona, New Mexico, and Utah came into the custody of Northern Arizona University's Department of Anthropology as follows: three individuals and associated funerary objects (fragments of fur blanket, human hair, vegetal materials) and potentially associated funerary objects (Tusayan Black-on-white jar sherds) excavated by J. Richard Ambler in 1970 at Dust Devil Cave, NA7613, near Navajo Mountain, Utah; fragments of one individual removed from surface context in Chindii Cave (UT V-13-8[NAU]) near Navajo Mountain by J. Richard Ambler in 1970. No project report has been located. BIA transferred the following to NAU custody in 2019: fragments of 10 individuals from University of Connecticut excavations by Lee Correll in 1970 in Monument Valley, Utah. BIA transferred the following from custody of New Mexico State University to Northern Arizona University in 2018: fragments of one or two individuals with a few canid bones that may be associated—records are unclear—the human bones were excavated by New Mexico State University at AZE 8-10 (NMSU) near Cove, Arizona, in 1979 in the course of a waterline project, or from a highway salvage project at site NA8800 near Chilchinbito in 1977 and given to NMSU in 1980; eight individuals and 24 funerary objects (a Puerco Black-on-white jar fragment, a miniature Gallup Black-on-white pitcher, four deer bones, 17 unidentified faunal bone fragments, and a shell bead necklace) recovered near McKinley Mine from sites NL86, NL141, NL91, and NL250 sometime between 1977 and 1979 under a BIA contract; four to eight individuals and 17 funerary objects (a small Cibola indented corrugated jar, the base of a Puerco Black-on-white duck-shaped jar, two hammer stones, eight lithic flakes, one lithic core, a set of 65 shell beads, three faunal bones) recovered near Pinedale, McKinley County, New Mexico between 1977 and 1979 on the N11 road excavation under a BIA contract. Fragments of two individuals were gathered from an NAU field school excavation in 1978 at AZ K-8-1 (NAU), St Michaels Pueblo near St Michaels, Arizona, on land belonging to the Sisters of the Blessed Sacrament, surrounded by Navajo Tribal Trust lands.

There is no evidence or record of the presence of any potentially hazardous substances used to treat any of the human remains or associated funerary objects. Glue was used on some items, and labels were applied with ink to some items.

Cultural Affiliation

Based on the information available and the results of consultation, cultural affiliation is reasonably identified by the geographical location or acquisition history of the human remains and associated funerary objects described in this notice.

Determinations

The Bureau of Indian Affairs has determined that:

• The human remains described in this notice represent the physical remains of at least 29 individuals of Native American ancestry.

• The 30 objects described in this notice are reasonably believed to have been placed intentionally with or near individual human remains at the time of death or later as part of the death rite or ceremony.

• There is a connection between the human remains and associated funerary objects described in this notice and the Navajo Nation, Arizona New Mexico, & Utah.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 20, 2026. If competing requests for repatriation are received, the Bureau of Indian must determine the most appropriate requestor prior to repatriation. Requests for joint repatriation of the human remains and associated funerary objects are considered a single request and not competing requests. The Bureau of Indian Affairs is responsible for sending a copy of this notice to the Indian Tribes and Native Hawaiian organizations identified in this notice and any other consulting parties.

Authority: Native American Graves Protection and Repatriation Act, 25 U.S.C. 3003, and the implementing regulations, 43 CFR 10.10.

Dated: December 4, 2025.
Melanie O'Brien,
Manager, National NAGPRA Program.

[FR Doc. 2025-23346 Filed 12-18-25; 8:45 am]

BILLING CODE 4312-52-P